ENVIRONMENTAL PROTECTION AGENCY

[FRL-8460-5]

Proposed CERCLA Section 122(h) Ability To Pay Settlement for the Westwood Chemical Corporation Superfund Site, Middletown, Orange County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed Ability To Pay settlement agreement pursuant to section 122(h) of CERCLA, 42 U.S.C. 9622(h), with Rocco Giovanniello, an individual who is a potentially responsible party for the Westwood Chemical Corporation Superfund Site (“Site”) in Middletown, Orange County, New York. Under the terms of the settlement agreement, Mr. Giovanniello would pay to EPA the amount of $25,000 towards reimbursement of EPA's past costs at the Site in installments as follows: an initial installment of $15,000 following the effective date of the settlement agreement, and a second installment of $10,000, plus interest, one year after the effective date. The settlement includes a covenant by EPA not to sue or to take administrative action against the settling party pursuant to sections 106 and 107(a) of CERCLA, 42 U.S.C. 9606 and 9607(a), with regard to the Site. For thirty (30) days following the date of publication of this notice, EPA will receive written comments relating to the settlement. EPA will consider all comments received and may modify or withdraw its consent to the settlement if comments received disclose facts or considerations that indicate that the proposed settlement is inappropriate, improper or inadequate.

EPA's response to any comments received will be available for public inspection at EPA Region II, 290 Broadway, New York, New York 10007-1866.

DATES: Comments must be submitted on or before September 24, 2007.

ADDRESSES: The proposed settlement is available for public inspection at EPA Region II offices at 290 Broadway, New York, New York 10007-1866. Comments should reference the Westwood Chemical Corporation Superfund Site, Middletown, Orange County, New York, Index No. CERCLA-02-2007-2015. To request a copy of the proposed settlement agreement, please contact the EPA employee identified below.

FOR FURTHER INFORMATION CONTACT: Michael A. Mintzer, Assistant Regional Counsel, New York/Caribbean Superfund Branch, Office of Regional Counsel, U.S. Environmental Protection Agency, 290 Broadway—17th Floor, New York, New York 10007-1866. Telephone: 212-637-3168.

Dated: August 15, 2007.
William McCabe,
Acting Director, Emergency and Remedial Response Division, Region 2.

[FR Doc. E7-16793 Filed 8-23-07; 8:45 am]

BILLING CODE 6560-50-P